DEPARTMENT OF THE TREASURY

Internal Revenue Service

Quarterly Publication of Individuals, Who Have Chosen to Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2002.

LNAME | FNAME | MNAME
Andersen | Inger | Marie
Aslet | Peter | M
Baca | Susan | Berry
Blank | Chip |
Bodmer | Philip | Daniel
Brands | Marcus | A
Brecelnick | Natalie | Ann
Bromberg | Ruth |
Budd | Sandra | Alice
Buschina | Magdalena |
Cabatuando | Antonio | Miranda
Chiarizia | Anita | Ulack
Chung | Edwin |
Doroski | Mark | Joseph
Doroski | Cheryl | Marie
Ernst | Joan | Claudia
Fisher | Jonathan | Asher
Fisher | Mina |
Fok | Helen | Hsi Lin
Fontaine(aka Rene Joseph Sylvio Fontain) | Joseph | Rene Sylvio
Foo | Robert | Sung Ting
Fraser | Anthony | A
Freeman | Gunhild | B.
Fung | Amy | Pik-Mei
Gaib | Connie | Sue
Gill | Gwendolyn | Jeanne
Gilman | Andrew | Curtis
Goodwin Jr | Gilbert | Lenell
Grabo | Anders | P
Greene Jr | Charles | Sheldon
Hallyday | David |
Hart | Linda | Joan
Hoffmann | Eric | Christian
Husar | Lubomyr |
Ito | Mark | Kenichiro
Jastrow | Lee |
Jeffrey | Lisa | Claire
Kabe | Noriko |
Keneally | Kristina | Kerscher
Kent | Yasuko | N
Kubo | Katsuyuki |
Kusharsky | Alexander |
Kwon | Lana |
Lee | Ericka | Jong
Lee | Choohye |
Lehnert | Colleen | Dione
Lengyel | Alice | Wolf
Lin | Heng-yeh |
Lubsesn | Sigismundus |
MacDougall | Lorna | Grace
Machon | Stephen | Charles
Matsuhashi | Shuko |
Matthews | Janet | Elizabeth
McNicol | Sharon-Ann | Arlene
Oskanian | Vartan |
Ozols | Ivars | Juris
Paegle | Vaira |
Paleg | Leslie | Godell
Pecherek | Craig | Matthew
Piantedosi | Domenica |
Pilch | Jozef |
Poulsen | Poul |
Robertson | James | Vincent
Rosenberg | Michael | M.
Rothemund | Virginia |
Sasson | Diane | Claude
Scheid | Katrin | Anja
Sen (aka Amita Mukherjee & Amita Ray) | Amita |
Shimakawa | Hiroyuki |
Sim | Richard | G
Simon | Robert | Samuel
Sinclair Jr. | Merle | Elwood
Sirois | Claudia | Nancy
Skierka | Alice | May
Smith | Scott | Leon
Smith | Gregg | Alan
Speck | Paul | Theodore
Speck | Barbara | Jean
Speck | Matthew | Ernest
Speck | Daniel | Anthony
Steinbock | Rachel |
Strassler | Ronald | Philip
Strecher | Sabine |
Tesluk | Timothy | Michael
Thompson | Kirsten | Deborah
Trezise | John | Adrian
Turdo | Rino | Bennie
Usleber | Gudrun |
Vahey | Grainne | Cuffe
Warne | Robert | Denis
Weston | Jennie | Fairbanks
Wong | Yuk | W.
Xu | Yanping |
Yue Gee Fung | Daniel | Kenneth
Yun | Theresa | Heeyul
Zisserson | Warren |
Zisserson | Marilynn |
Zyner | Leanne | Frances
Zyner | Grzegorz | Bogulsaw

Dated: January 13, 2003.
Samuel Brown,
Team Manager—Examination Operation, Philadelphia Compliance Services.

[FR Doc. 03-2068 Filed 1-28-03; 8:45 am]

BILLING CODE 4830-01-P